FEDERAL COMMUNICATIONS COMMISSION

Notice of Public Information Collection(s) Being Reviewed by the Federal Communications Commission, Comments Requested

April 4, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 12, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0093.

Title: Application for Renewal of Radio Station License.

Form Number: FCC 405.

Type of Review: Revision of a currently approved collection.

Respondents: Businesses or other for-profit entities.

Number of Respondents: 2,500 filings in any given year.

Estimated Time per Response: 2.25 hours.

Frequency of Response: Every ten years.

Total Annual Burden: 5,625 hours.

Total Annual Costs: $337,500 in filing fees (2,500 filings x $135 = $337,500). Filing fee amounts vary depending upon the specific service for which application is made. Most Form 405 services are subject to a $135 filing fee.

Needs and Uses: FCC Form 405 is used by common carriers and Multipoint Distribution Service non-common carriers to apply for renewal of radio station licenses. Section 307(c) of the Communications Act limits the term of common carrier radio licenses to ten years and requires that written applications be submitted for renewal. FCC Form 405 is required by 47 CFR parts 5, 21, 23, and 25 of the Commission's rules. Form 405 is being revised to reflect the fact that respondents no longer file this form for applications for services in Parts 22 and 101 of the Commission's rules. Respondents now file FCC Form 601 for applications for those services.

Federal Communications Commission.
Magalie Roman Salas,
Secretary.

[FR Doc. 00-8889 Filed 4-10-00; 8:45 am]

BILLING CODE 6712-01-P